FEDERAL TRADE COMMISSION

16 CFR Part 305

RIN 3084-AB03

Energy Labeling Rule

AGENCY: Federal Trade Commission.

ACTION: Final rule.

SUMMARY: The Federal Trade Commission (“Commission”) amends its Energy Labeling Rule (“Rule”) by publishing new ranges of comparability for required EnergyGuide labels on clothes washers.

DATES: The amendments announced in this document will become effective May 11, 2016.

FOR FURTHER INFORMATION CONTACT: Hampton Newsome, Attorney, Division of Enforcement, Federal Trade Commission, Washington, DC 20580 (202-326-2889).

SUPPLEMENTARY INFORMATION:

I. Background

The Commission issued the Energy Labeling Rule in 1979, 44 FR 66466 (Nov. 19, 1979) pursuant to the Energy Policy and Conservation Act of 1975 (“EPCA”).¹ The Rule covers several categories of major household products, including clothes washers. It requires manufacturers of covered products to disclose specific energy consumption or efficiency information (derived from Department of Energy (“DOE”) test procedures) at the point-of-sale. In addition, each label must include a “range of comparability” indicating the highest and lowest energy consumption or efficiencies for comparable models. The Commission updates these ranges periodically.

¹ 42 U.S.C. 6294. EPCA also requires the Department of Energy (“DOE”) to set minimum efficiency standards and develop test procedures to measure energy use.

II. Range Updates for Clothes Washers

The Commission amends its comparability ranges for clothes washers in the Rule based on manufacturer model data derived from the DOE test procedures and submitted to DOE (https://www.regulations.doe.gov/ccms).² The amendments update the ranges in Appendix F1 and F2 and the sample labels in Appendix L of the Rule. The amendments also include conforming changes to sections 305.7, 305.10, and 305.11 to remove obsolete regulatory text applicable to models produced before March 7, 2015. Manufacturers have until May 11, 2016 to begin using the updated ranges on their labels. As indicated in section 305.10(a) of the Rule, products that have been labeled prior to this effective date need not be relabeled.

² Previously, the Commission announced its intention to update the clothes washer ranges based on test data derived from updated DOE test requirements. See 80 FR 67351, 67355, n. 29 (Nov. 2, 2015).

III. Administrative Procedure Act

The amendments published in this document involve routine, technical and minor, or conforming changes to the labeling requirements in the Rule. Accordingly, the Commission has good cause under section 553(b)(B) of the APA to forgo notice-and comment procedures for these rule amendments. 5 U.S.C. 553(b)(B). These technical amendments merely provide a routine, conforming change to the range information required on EnergyGuide labels. The Commission therefore finds for good cause that public comment for these technical, procedural amendments is impractical and unnecessary.

IV. Regulatory Flexibility Act

The provisions of the Regulatory Flexibility Act relating to a Regulatory Flexibility Act analysis (5 U.S.C. 603-604) are not applicable to this proceeding because the amendments do not impose any new obligations on entities regulated under the Energy Labeling Rule. These technical amendments merely provide a routine change to the range information required on EnergyGuide labels. Thus, the amendments will not have a “significant economic impact on a substantial number of small entities.” ³ The Commission has concluded, therefore, that a regulatory flexibility analysis is not necessary, and certifies, under Section 605 of the Regulatory Flexibility Act (5 U.S.C. 605(b)), that the amendments announced today will not have a significant economic impact on a substantial number of small entities.

³ 5 U.S.C. 605.

V. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through May 31, 2017 (OMB Control No. 3084 0069). The amendments now being adopted do not change the substance or frequency of the recordkeeping, disclosure, or reporting requirements and, therefore, do not require further OMB clearance.

List of Subjects in 16 CFR Part 305

Advertising, Energy conservation, Household appliances, Labeling, Reporting and recordkeeping requirements.

Accordingly, 16 CFR part 305 is amended as follows:

PART 305—[AMENDED]

1. The authority citation for Part 305 continues to read as follows:

Authority: 42 U.S.C. 6294.

2. In § 305.7, revise paragraph (g) to read as follows:

§ 305.7 Determinations of capacity.

* * * * *

(g) Clothes washers. The capacity shall be the tub capacity as determined according to Department of Energy test procedures in 10 CFR part 430, subpart B, expressed in terms of “Capacity (tub volume)” in cubic feet, rounded to the nearest one-tenth of a cubic foot, and the capacity class designations “standard” or “compact.”

* * * * *

3. In § 305.10, revise paragraph (b) to read as follows:

§ 305.10 Ranges of comparability on the required labels.

* * * * *

(b) Representative average unit energy cost. The Representative Average Unit Energy Cost figures to be used on labels as required by § 305.11 are listed in appendix K to this part. The Commission shall publish revised Representative Average Unit Energy Cost figures in the Federal Register in 2017. When the cost figures are revised, all information disseminated after 90 days following the publication of the revision shall conform to the new cost figure.

* * * * *

4. In § 305.11, revise paragraphs (f)(5), (f)(6), and (f)(9)(ii), remove paragraph (f)(9)(viii), redesignate paragraphs (f)(9)(ix) and (x) as (f)(9)(viii) and (ix) respectively, and revise redesignated paragraph (f)(9)(viii) to read as follows:

§ 305.11 Labeling for refrigerators, refrigerator-freezers, freezers, dishwashers, clothes washers, water heaters, room air conditioners, and pool heaters.

* * * * *

(f) * * *

(5) Unless otherwise indicated in this paragraph, estimated annual operating costs for refrigerators, refrigerator-freezers, freezers, clothes washers, dishwashers, room air conditioners, and water heaters are as determined in accordance with §§ 305.5 and 305.10. Thermal efficiencies for pool heaters are as determined in accordance with § 305.5. Labels for clothes washers and dishwashers must disclose estimated annual operating cost for both electricity and natural gas as illustrated in the sample labels in appendix L.

(6) Unless otherwise indicated in this paragraph, ranges of comparability for estimated annual operating costs or thermal efficiencies, as applicable, are found in the appropriate appendices accompanying this part. For refrigerators, refrigerator-freezers, and freezers manufactured on or after September 15, 2014, the range information shall match the text and graphics in sample labels 1A of Appendix L.

* * * * *

(9) * * *

(ii) For refrigerators, refrigerator-freezers, and freezers manufactured on or after September 15, 2014 and clothes washers manufactured after March 7, 2015, the label shall contain the text and graphics illustrated in sample labels 1A and 2 of Appendix L, including the statement:

Compare ONLY to other labels with yellow numbers.

Labels with yellow numbers are based on the same test procedures.

* * * * *

(viii) For clothes washers, the label shall contain the text and graphics illustrated in the prototype and sample labels in Appendix L, including the following statements (fill in the blanks with the appropriate capacity type and energy cost):

Your cost will depend on your utility rates and use.

Cost range based only on [compact/standard] capacity models.

Estimated operating cost based on six wash loads a week and a national average electricity cost of __ cents per kWh and natural gas cost of $__ per therm.

* * * * *

5. Appendix F1 to Part 305 is revised to read as follows:

Appendix F1 to Part 305—Standard Clothes Washers

Range Information

“Standard” includes all household clothes washers with a tub capacity of 1.6 cu. ft. or more.

Capacity | Range of estimated annual operating costs (dollars/year): Low | Range of estimated annual operating costs (dollars/year): High
Standard | $8 | $51

6. Appendix F2 to Part 305 is revised to read as follows:

Appendix F2 to Part 305—Compact Clothes Washers

Range Information

“Compact” includes all household clothes washers with a tub capacity of less than 1.6 cu. ft.

Capacity | Range of estimated annual operating costs (dollars/year): Low | Range of estimated annual operating costs (dollars/year): High
Compact | $10 | $24

7. In Appendix L to Part 305, revise Prototype Label 2 and Sample Label 2 and remove Sample Label 2A to read as follows:

Appendix L to Part 305—Sample Labels

* * * * *

BILLING CODE 6750-01-P

* * * * *

* * * * *

By direction of the Commission.
Donald S. Clark,
Secretary.

[FR Doc. 2016-02744 Filed 2-10-16; 8:45 am]

BILLING CODE 6750-01-C